DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 USC 1531 et seq.).

Permit No. 036890

Applicant: Virginia S. Moran, Julian, California

The applicant requests an amendment to the existing permit to take (remove or reduce to possession) Munz's onion (Allium munzii) in conjunction with survey activities, including removal for voucher specimens for discovery of new populations, on Cleveland National Forest lands, San Diego County, California, for the purpose of enhancing its survival.

Permit No. TE-005956

Applicant: USGS, Biological Resources Division, Western Fisheries Research Center

The applicant requests a permit to take (capture, measure, weigh, mark, release, and sacrifice) the cui-ui (Chasmistes jujus) and Ash Meadows Amargosa pupfish (Cyprinodon nevadensis mionectes); take (capture, release, and sacrifice) the Moapa dace (Moapa coriacea); take (capture, mark, and release) the Warm Springs pupfish (Cyprinodon nevadensis pectoralis), White River springfish (Crenichthys baileyi baileyi), Hiko White River springfish (Crenichthys baileyi grandis), Independence Valley speckled dace (Rhinichthys osulus lethoporus); take (capture, release, and harass by observation) the White River spinedace (Lepidomeda albivalis); and take (harass by observation) the Pahranagat roundtail chub (Gila robusta jordani) and Ash Meadows speckled dace (Rhinichthys osculus nevadensis) in Nevada and Idaho for the purpose of scientific research to enhance the survival of the species. This permit was previously issued as subpermit NBSWFRC.

Permit No. TE-827500

Applicant: Sean Barry, Dixon, California

The applicant requests permit amendment to take (harass by survey, capture) the San Francisco garter snake (Thamnophis sirtalis tetrataenia) in conjunction with presence/absence surveys during pre-construction activities throughout the species' range in California, for the purpose of enhancing its survival.

Permit No. 044854

Applicant: Michael Parker, Ashland, Oregon

The applicant requests a permit to take (remove from the wild) Devils Hole pupfish (Cyprinodon diabolis) in conjunction with scientific research in Nye County, Nevada, for the purpose of enhancing its survival.

Permit No. 044846

Applicants: Channel Islands National Park and USGS-BRD, Western Ecological Research Center, Ventura, California

The applicants request a permit to take (remove for voucher specimens, seed and fruit collection, and propagation materials) Hoffman's rock-cress (Arabis hoffmannii ssp. tenuiflora), Santa Rosa Island manzanita (Arctostaphylos confertiflora), island barbarry (Berberis pinnata ssp. insularia), soft-leaved paintbrush (Castilleja mollis), Santa Barbara Island live-forever (Dudleya traskiae), island bedstraw (Galium buxifolium), Hoffman's slender flowered gilia (Gilia tenuiflora ssp. hoffmanii), Santa Cruz Island bushmallow (Malacothamnus fasciculatus var. nesioticus), Santa Cruz Island malacothrix (Malacothrix indecora), island malacothrix (Malacothrix squalida), island phacelia (Phacelia insluaris ssp. insularis), and Santa Cruz Island fringepod (Thysanocarpus conchuliferus) in conjunction with surveys and scientific research in Santa Barbara and Ventura Counties for the purpose of enhancing their survival.

Permit No. TE-039111

Applicant: Gary Burchett, Fallbrook, California

The applicant requests a permit to take the southwestern willow flycatcher (Empidonax trailii extimus) in conjunction with presence/absence surveys in Riverside, San Bernardino, and San Diego Counties, California, for the purpose of enhancing its survival.

Permit No. TE-807303

Applicant: Rudi Mattoni, Los Angeles, California

The applicant requests a permit amendment to take (harass by survey) the Quino checkerspot butterfly (Euphydryas editha quino) and Laguna Mountains skipper (Pyrgus ruralis lagunae) in conjunction with presence/absence surveys in southern California, for the purpose of enhancing their survival.

Permit No. TE-044572

Applicant: Chris Pyke, Santa Barbara, California

The applicant requests a permit to take (collect cysts) the Conservancy fairy shrimp (Branchinecta conservatio), longhorn fairy shrimp (Branchinecta longiantenna), and the vernal pool fairy shrimp (Branchinecta lynchi) in conjunction with ecological research in San Joaquin, Santa Barbara, Ventura, Tulare, Merced, Butte, Yuma, and Sutter Counties, California for the purpose of enhancing their survival.

Permit No. TE-045153

Applicant: Dustin Janeke, Mangilao, Guam

The applicant has requested a permit to take (capture, mark, radio-track, collect tissue samples, and release) the Mariana fruit bat (Pteropus mariannus mariannus) in conjunction with scientific research in Guam, for the purpose of enhancing its survival.

DATES: Written comments on these permit applications must be received on or before August 30, 2001.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: July 18, 2001.
Rowan W. Gould,
Acting Regional Director, Region 1, Portland, Oregon.

[FR Doc. 01-18975 Filed 7-30-01; 8:45 am]

BILLING CODE 4310-55-P